NUCLEAR REGULATORY COMMISSION

[Docket No. 50-219]

GPU Nuclear, Inc. and Jersey Central Power & Light Co.; Notice of Consideration of Issuance of Amendment to Facility Operating License, Proposed No Significant Hazards Consideration Determination, and Opportunity for a Hearing

The U.S. Nuclear Regulatory Commission (the Commission) is considering issuance of an amendment to Facility Operating License No. DPR-16, issued to GPU Nuclear, Inc. and et al. (the licensee), for operation of the Oyster Creek Nuclear Generating Station located in Ocean County, New Jersey.

The proposed amendment would remove a shutdown requirement with regard to the relief valve position indication system in Section 3.13 of the Technical Specifications (TSs). The licensee requests that the proposed revision be considered under exigent conditions as the Oyster Creek Nuclear Generating Station is currently operating under a Notice of Enforcement Discretion and needs the requested revision to prevent a shutdown of the reactor plant. The acoustic monitors provide an indication that an electromagnetic relief valve (EMRV) has closed after opening. This is an indication only, and provides no safety function.

The exigent need for the proposed amendment to the TSs was a result of failed plant equipment. Realizing that the acoustic monitors could require a plant shutdown on short notice, the licensee had previously installed spare monitors on all five EMRVs and believed that the redundancy of the components in the drywell would increase the reliability of the instrumentation. This is the first time in the Oyster Creek history that both acoustic monitors on one EMRV were inoperable and unable to be repaired.

Before issuance of the proposed license amendment, the Commission will have made findings required by the Atomic Energy Act of 1954, as amended (the Act) and the Commission's regulations.

Pursuant to 10 CFR 50.91(a)(6) for amendments to be granted under exigent circumstances, the NRC staff must determine that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Involve a significant increase in the probability [or consequences] of an accident previously evaluated; (or)

This proposal will not increase the probability of occurrence or consequences of an accident previously evaluated in the SAR [Safety Analysis Report]. The EMRV Position Indication System does not affect the operation of the EMRVs. No failure of the Position Indication System can affect the ability of these valves to perform their design functions or result in any condition where operation of one or more EMRVs is required. Failure of the Position Indication System to actuate in the event of an actual valve actuation does not affect the consequences of that event.

During an event when an EMRV malfunctions (SORV [stuck open relief valve]) there are alternate indications available to the operator to indicate the malfunction of the valve in the event that the Position Indication System fails. EMRV tail pipe temperature rise above normal levels is a reliable indication of EMRV actuation and a reliable indication of closure. The probability of a stuck open EMRV (SORV) Event is not affected by the lack of position indication for the EMRV. The ability to detect the stuck open EMRV condition is adequately covered by backup indication or secondary (e.g. RPV [reactor pressure vessel] level, RPV pressure, and suppression pool temperature) indicators, and will not result in an increase in the probability or consequences of an accident previously evaluated. Operators will be able to determine that a SORV has occurred and procedures are in place to mitigate this condition that do not depend on the EMRV acoustical monitoring system for indication.

2. Create the possibility of a new or different kind of accident from any accident previously evaluated; (or)

This proposal does not create the possibility for an accident or malfunction of a different type than any previously identified in the SAR. The EMRV Position Indication System performs no control or protective function. It only provides an indirect indication of valve position. Failure of this device will not cause an unanalyzed failure of an engineered safety feature. Because of the diverse and redundant indications available, failure of the position indication system will not cause a new accident, nor will it cause the operator to commit errors to create the possibility of a new or different type of accident. This proposal does not affect the method of operation or maintenance or surveillance requirements of the EMRV position indication system, only the LCOs associated with the EMRV position indication system.

3. Involve a significant reduction in a margin of safety

This change does not reduce the margin of safety of any Technical Specification. Operating without one of the two position indicators for an EMRV does not reduce the design or operating basis margin to safety. In the unlikely event of an SORV, sufficient backup indication is available to identify and mitigate the occurrence. The SORV analysis assumes that operator action is taken on bulk suppression pool temperature (including a time delay) and does not credit any operator actions initiated as a result of operation of the position indicator system.

Existing plant procedures provide sufficient guidance for detecting this condition and taking appropriate actions to mitigate an effect on continued safe operation. Thus, the proposed change does not involve a reduction in a margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 14 days after the date of publication of this notice will be considered in making any final determination.

Normally, the Commission will not issue the amendment until the expiration of the 14-day notice period. However, should circumstances change during the notice period, such that failure to act in a timely way would result, for example, in derating or shutdown of the facility, the Commission may issue the license amendment before the expiration of the 14-day notice period, provided that its final determination is that the amendment involves no significant hazards consideration. The final determination will consider all public and State comments received. Should the Commission take this action, it will publish in the Federal Register a notice of issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Copies of written comments received may be examined at the NRC Public Document Room, the Gelman Building, 2120 L Street, NW., Washington, DC.

The filing of requests for hearing and petitions for leave to intervene is discussed below.

By September 1, 2000, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714 which is available at the Commission's Public Document Room, the Gelman Building, 2120 L Street, NW., Washington, DC, and accessible electronically through the ADAMS Public Electronic Reading Room link at the NRC Web site (http://www.nrc.gov). If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) the nature of the petitioner's right under the Act to be made a party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If the amendment is issued before the expiration of the 30-day hearing period, the Commission will make a final determination on the issue of no significant hazards consideration. If a hearing is requested, the final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, the Gelman Building, 2120 L Street, NW., Washington, DC, by the above date. A copy of the petition should also be sent to the Office of the General Counsel, U.S. Nuclear Regulatory Commission, Washington, DC 20555-0001, and to Ernest L. Blake, Jr., Esquire, Shaw, Pittman, Potts & Trowbridge, 2300 N Street, NW., Washington, DC 20037, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated July 21, 2000, which is available for public inspection at the Commission's Public Document Room, the Gelman Building, 2120 L Street, NW., Washington, DC, and accessible electronically through the ADAMS Public Electronic Reading Room link at the NRC Web site (http://www.nrc.gov).

Dated at Rockville, Maryland, this 27th day of July, 2000.
For the Nuclear Regulatory Commission.
Helen N. Pastis,
Senior Project Manager, Section 1, Project Directorate I, Division of Licensing Project Management, Office of Nuclear Reactor Regulation.

[FR Doc. 00-19574 Filed 8-1-00; 8:45 am]

BILLING CODE 7590-01-P